DEPARTMENT OF AGRICULTURE

Submission for OMB Review; Comment Request

October 26, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques and other forms of information technology.

Comments regarding this information collection received by December 1, 2017 will be considered. Written comments should be addressed to: Desk Officer for Agriculture, Office of Information and Regulatory Affairs, Office of Management and Budget (OMB), New Executive Office Building, 725 17th Street NW., Washington, DC 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Southwestern Crown Collaborative Forest Management Social Monitoring.

OMB Control Number: 0596-NEW.

Summary of Collection: The Forest Landscape Restoration Act (FLRA) of 2009 (16 U.S.C. 7303), which enables the Collaborative Forest Landscape Restoration Program (CFLRP), requires monitoring “to assess the positive or negative ecological, social, and economic effects of projects implementing a selected proposal for not less than 15 years after project implementation commences.” The CFLRP program started in 2010 to encourage collaborative groups of neighboring landowners, state, local and tribal government representatives, businesses, interest groups, and nonprofit organizations, to work with the Forest Service (FS) to find common ground pertaining to geographically extensive forest restoration.

Need and Use of the Information: Respondents will be given the option of completing an online version of the monitoring instrument or of completing a paper version. The collection of information will allow FS to meet its obligations under the CFLRP to monitor social impacts and to provide feedback to FS managers about activities, including the decisions making processes, conducted under the CFLRP. Without the collection of information, the FS will be unable to determine whether it is meeting the requirements of the Forest Landscape Restoration Act, nor if they are fully incorporating partner and public input into forest project, implementation, monitoring and/or planning processes as required by law.

Description of Respondents: Residents within the Southwestern Crown CFLRP Landscape and Southwestern Crown Collaborative participants.

Number of Respondents: 2,330.

Frequency of Responses: One time.

Total Burden Hours: 320.

Charlene Parker,
Departmental Information Collection Clearance Officer.

[FR Doc. 2017-23709 Filed 10-31-17; 8:45 am]

BILLING CODE 3411-15-P